DEPARTMENT OF TRANSPORTATION

Federal Aviation Administration

14 CFR Part 71

[Docket No. FAA-2025-5107; Airspace Docket No. 25-AGL-16]

RIN 2120-AA66

Amendment of Class D and Class E Airspace; Ashland, Bucyrus, and Mansfield, OH

AGENCY: Federal Aviation Administration (FAA), DOT.

ACTION: Final rule.

SUMMARY: This action amends the Class D and Class E airspace at Mansfield, OH; and the Class E airspace at Ashland and Bucyrus, OH. The name of the Mansfield Lahm Regional Airport, Mansfield, OH; the name and geographic coordinates of the University Hospitals Samaritan Medical Center Heliport, Ashland, OH, and Port Bucyrus/Crawford County Airport, Bucyrus, OH, are also being updated to coincide with the FAA's aeronautical database. This action is the result of airspace reviews conducted due to the decommissioning of the Mansfield very high frequency omnidirectional range (VOR) as part of the VOR Minimum Operational Network (MON) Program. This action brings the airspace into compliance with FAA orders and supports instrument flight rule (IFR) procedures and operations.

DATES: Effective 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D and Class E airspace at the affected airports to support IFR operations.

History

The FAA published an NPRM for Docket No. FAA-2025-5107 in the Federal Register (90 FR 52576; November 21, 2025) proposing to amend the Class D and Class E airspace at Mansfield, OH; and the Class E airspace at Ashland and Bucyrus, OH. Interested parties were invited to participate in this rulemaking effort by submitting written comments on the proposal to the FAA. One comment was received from the Citizens Rulemaking Alliance.

Overall, the comment and accompanying petition are not applicable to the proposed airspace action; however, the following explanations are provided.

The comment and accompanying petition requested that the FAA either withdraw the final rule and issue an NPRM, or that the FAA delay the effective date, open a 60-day comment period, and supplement the record. The comment was written as if the FAA had already issued a final rule, but in fact, the FAA had only issued an NPRM. The FAA provided a 45-day comment period for the NPRM, during which the commenter submitted its comment and petition. The commenter's request had already been satisfied at the time the commenter submitted its comment and petition. Therefore, the comment is largely unrelated and irrelevant to this action.

The petition further asserts that the FAA did not comply with the Regulatory Flexibility Act because of alleged boilerplate language. The petition makes assumptions that because standard language is used in the NPRM, the FAA did not perform the requisite analysis to comply with applicable rules and regulations. The FAA reviews updates to each piece of airspace individually and conducts all necessary analyses on its airspace actions in accordance with applicable law, authority, and agency guidance, including the Administrative Procedures Act, the Regulatory Flexibility Act, E.O. 12866, FAA Order JO 7400.2R, Procedures for Handling Airspace Matters, and FAA Order 1050.1G, FAA National Environmental Policy Act Implementing Procedures. Language in the NPRM and final rule for this action utilizes certain standardized text common to similar routine airspace actions but is tailored to the specific action. Use of standardized text ensures consistency among similar routine actions and allows FAA to streamline one of its most prolific rulemaking portfolios. However, adoption of standardized text does not indicate a lack of thorough and adequate analysis.

The comment also objects to bypassing notice and comment. However, the FAA did not bypass notice and comment for any aspect of this action. When the FAA elects to bypass notice and comment for all or part of an airspace action, it conducts a thorough review of the action and surrounding circumstances to determine whether good cause exists for doing so. No such analysis was necessary here, though, as the FAA did not bypass notice and comment.

Incorporation by Reference

Class D and E airspace designations relevant to this action are published in paragraphs 5000, 6002, and 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class D, Class E surface area, and Class E airspace extending upward from 700 ft. above the surface at Mansfield, Ohio; and the Class E airspace extending upward from 700 ft. above the surface at Ashland, Ohio, and Bucyrus, Ohio, due to airspace reviews conducted as part of the decommissioning of the Mansfield VOR as part of the VOR MON Program.

For the Mansfield Lahm Regional Airport, Mansfield, OH, Class D airspace, this action: (1) increases the radius from 4.4 miles to 5.4 miles from the airport; (2) updates the name of the airport from Mansfield Lahm Municipal Airport to Mansfield Lahm Regional Airport to coincide with the FAA's aeronautical database; and (3) changes the outdated term of “Notice to Air Missions” to “Notice to Airmen.”

For the Mansfield Lahm Regional Airport Class E surface area, this action: (1) increases the radius from 4.4 miles to 5.4 miles; and (2) changes the outdated term of “Notice to Air Missions” to “Notice to Airmen.”

For the Ashland County Airport, Ashland, OH, Class E airspace extending upward from 700 ft. above the surface, this action: (1) increases the radius from 6.3 miles to 6.9 miles from the airport; and (2) removes the exclusion area as it is not required.

For the University Hospitals Samaritan Medical Center Heliport, Ashland, OH, Class E airspace extending upward from 700 ft. above the surface, this action: (1) increases the radius from 6 miles to 6.7 miles; (2) replaces the point in space coordinates with the heliport reference point; and (3) updates the name of the heliport from Samaritan Hospital Heliport to University Hospitals Samaritan Medical Center Heliport to coincide with the FAA's aeronautical database.

For the Port Bucyrus/Crawford County Airport, Bucyrus, OH, Class E airspace extending upward from 700 ft. above the surface, this action: (1) increases the radius from 6.3 miles to 6.8 miles; (2) removes the city associated with the airport in the airspace legal description to comply with changes to FAA Order JO 7400.2R; and (3) updates the name of the airport from Port Bucyrus-Crawford County Airport to Port Bucyrus/Crawford County Airport and updates the geographic coordinates to coincide with the FAA's aeronautical database.

For the Mansfield Lahm Regional Airport Class E airspace extending upward from 700 ft. above the surface, this action: (1) increases the radius from 6.9 miles to 7.9 miles; (2) amends the extension northeast of the airport to within 2 miles each side of the 047° bearing from the Mansfield Lahm Regional Airport extending from the 7.9-mile (previously 6.9-mile) radius from the airport to 8.9 miles northeast of the airport; (3) removes the Mansfield VORTAC and all associated extensions from the legal description; (4) adds an extension within 4 miles each side of the 137° bearing from the Mansfield Lahm RGNL: RWY 32-LOC extending from the 7.9-mile radius from the Mansfield Lahm Regional Airport to 8.9 miles southeast of the airport; (5) adds an extension within 4 miles each side of the 136° bearing from the MANNS NDB extending from the 7.9-mile radius of the Mansfield Lahm Regional Airport to 15 miles southeast of the airport; (6) adds an extension 4 miles each side of the 137° bearing from the Mansfield Lahm Regional Airport extending from the 7.9-mile radius from the airport to 11.2 miles southeast of the airport; and (7) adds an extension within 4 miles each side of the 317° bearing from the Mansfield Lahm Regional Airport extending from the 7.9-mile radius of the airport to 11.6 miles northwest of the airport.

For the Galion Municipal Airport, Galion, OH, Class E airspace extending upward from 700 ft. above the surface contained within the Mansfield, OH, airspace legal description, this action increases the radius from 6.3 miles to 7.9 miles.

For the Shelby Community Airport, Shelby, OH, Class E airspace extending upward from 700 ft. above the surface contained within the Mansfield, OH, airspace legal description, this action increases the radius from 6.3 miles to 7 miles.

And for the Willard Airport, Willard, OH, Class E airspace extending upward from 700 ft. above the surface contained within the Mansfield, OH, airspace legal description, this action increases the radius from 6.3 miles to 6.5 miles.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures,” Paragraph B-2.5(a). This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

AGL OH D Mansfield, OH [Amended]

Mansfield Lahm Regional Airport, OH

(Lat 40°49′17″ N, long 082°31′00″ W)

That airspace extending from the surface to and including 3,800 feet MSL within a 5.4-mile radius of the Mansfield Lahm Regional Airport. This Class D airspace area is effective during the specific dates and times established in advance by Notice to Airmen. The effective dates and times will thereafter be continuously published in the Chart Supplement.

* * * * *

6002 Class E Airspace Areas Designated as Surface Areas.

* * * * *

AGL OH E2 Mansfield, OH [Amended]

Mansfield Lahm Regional Airport, OH

(Lat 40°49′17″ N, long 082°31′00″ W)

Within a 5.4-mile radius of Mansfield Lahm Regional Airport. This Class E airspace area is effective during the specific dates and times established in advance by Notice to Airmen. The effective dates and times will thereafter be continuously published in the Chart Supplement.

* * * * *

Paragraph 6005 Class E Airspace Areas Extending Upward From 700 Feet or More Above the Surface of the Earth.

* * * * *

AGL OH E5 Ashland, OH [Amended]

Ashland County Airport, OH

(Lat 40°54′11″ N, long 082°15′20″ W)

University Hospitals Samaritan Medical Center Heliport, OH

(Lat 40°51′33″ N, long 082°18′31″ W)

That airspace extending upward from 700 feet above the surface within a 6.9-mile radius of Ashland County Airport; and within a 6.7-mile radius of the University Hospitals Samaritan Medical Center Heliport.

* * * * *

AGL OH E5 Bucyrus, OH [Amended]

Port Bucyrus/Crawford County Airport, OH

(Lat 40°46′54″ N, long 082°58′29″ W)

That airspace extending upward from 700 feet above the surface within a 6.8-mile radius of the Port Bucyrus/Crawford County Airport.

* * * * *

AGL OH E5 Mansfield, OH [Amended]

Mansfield Lahm Regional Airport, OH

(Lat 40°49′17″ N, long 082°31′00″ W)

Mansfield Lahm RGNL: RWY 32-LOC

(Lat 40°50′07″ N, long 082°31′51″ W)

MANNS NDB

(Lat 40°45′59″ N, long 082°26′43″ W)

Galion Municipal Airport, OH

(Lat 40°45′12″ N, long 082°43′26″ W)

Shelby Community Airport, OH

(Lat 40°52′22″ N, long 082°41′51″ W)

Willard Airport, OH

(Lat 41°02′20″ N, long 082°43′28″ W)

That airspace extending upward from 700 feet above the surface within a 7.9-mile radius of Mansfield Lahm Regional Airport; and within 2 miles each side of the 047° bearing from Mansfield Lahm Regional Airport extending from the 7.9-mile radius of the Mansfield Lahm Regional Airport to 8.9 miles northeast of the Mansfield Lahm Regional Airport; and within 4 miles each side of the 137° bearing from the Mansfield Lahm RGNL: RWY 32-LOC extending from the 7.9-mile radius of the Mansfield Lahm Regional Airport to 8.9 miles southeast of the Mansfield Lahm Regional Airport; and within 4 miles each side of the 136° bearing from the MANNS NDB extending from the 7.9-mile radius of the Mansfield Lahm Regional Airport to 15 miles southeast of the Mansfield Lahm Regional Airport; and within 4 miles each side of the 137° bearing from the Mansfield Lahm Regional Airport extending from the 7.9-mile radius of the Mansfield Lahm Regional Airport to 11.2 miles southeast of the Mansfield Lahm Regional Airport; and within 4 miles each side of the 317° bearing from the Mansfield Lahm Regional Airport extending from the 7.9-mile radius of the Mansfield Lahm Regional Airport to 11.6 miles northwest of the Mansfield Lahm Regional Airport; and within a 7.9-mile radius of Galion Municipal Airport; and within a 7-mile radius of Shelby Community Airport; and within a 6.5-mile radius of Willard Airport.

* * * * *

Issued in Fort Worth, Texas, on January 20, 2026.
Jerry J. Creecy,
Acting Manager, Operations Support Group, ATO Central Service Center.

[FR Doc. 2026-01171 Filed 1-21-26; 8:45 am]

BILLING CODE 4910-13-P